SECURITIES AND EXCHANGE COMMISSION

17 CFR Parts 232 and 239

[Release Nos. 33-10765A; 34-88358A; IC-33814A; File No. S7-23-18]

RIN 3235-AK60

Updated Disclosure Requirements and Summary Prospectus for Variable Annuity and Variable Life Insurance Contracts; Correction

AGENCY: Securities and Exchange Commission.

ACTION: Final rule; correction.

SUMMARY: This document makes technical corrections to amendments to disclosure requirements and summary prospectus for variable annuity and variable life insurance contracts adopted in Release No. 33-10765 (March 11, 2020), which was published in the Federal Register on May 1, 2020.

DATES: Effective July 1, 2020.

FOR FURTHER INFORMATION CONTACT: Pamela K. Ellis (Senior Counsel) Investment Company Regulation Office, at (202) 551-6792, Division of Investment Management, Securities and Exchange Commission, 100 F Street NE, Washington, DC 20549-8549.

SUPPLEMENTARY INFORMATION: We are making technical amendments to correct instructions related to §§ 232.405 and 239.23. Specifically, this document amends Instructions 15(d) and 18(b) published in the Adopting Release. Instruction 15(d) is amended to redesignate Note 2 to rule 405 of Regulation S-T as Note 1 to rule 405 of Regulation S-T, and Instruction 18(b) is amended to replace the reference to Item 3 of Form N-14 with a reference to Item 5(c) of Form N-14.

In 85 FR 25964 appearing in the Federal Register on Monday, May 1, 2020, the following corrections are made:

§ 232.405 [Corrected]

1. On page 26099, in the first column, in amendatory instruction 15.d., “Note 2” is corrected to read “Note 1”.

2. On page 26099, in the second column, in § 232.405, in the introductory text, “the note” is corrected to read “Note 1”.

3. On page 26100, in the first column, in § 232.405, “Note 2 to § 232.405” is corrected to read “Note 1 to § 232.405.”

4. On page 26100, in the third column, in § 239.15, amendment 18b., “In Item 3, replacing the phrase “Items 2, 4(a) through (c), and 5 through 14 of Form N-3” with “Items 2 through 3, 5 through 16, and 18 of Form N-3” ” is corrected to read “b. In Item 5(c), removing the phrase “Items 2, 4(a) through (c), and 5 through 14 of Form N-3” and adding in its place “Items 2 through 3, 5 through 16, and 18 of Form N-3”.

Dated: June 10, 2020.
Vanessa A. Countryman,
Secretary.

[FR Doc. 2020-12902 Filed 6-30-20; 8:45 am]

BILLING CODE 8011-01-P